ENVIRONMENTAL PROTECTION AGENCY

[EPA-R09-OAR-2017-0345; FRL-9964-02-Region 9]

Adequacy Status of Motor Vehicle Emission Budgets in Submitted Ozone Attainment Plan for San Joaquin Valley, California

AGENCY: Environmental Protection Agency (EPA).

ACTION: Notice of Adequacy.

SUMMARY: The Environmental Protection Agency (EPA) is notifying the public that the Agency has found that the motor vehicle emission budgets (MVEBs or “budgets”) for ozone for the years 2018, 2021, 2024, 2027, 2030, and 2031 in the San Joaquin Valley 2016 Plan for the 2008 8-Hour Ozone Standard (“2016 Ozone Plan”) are adequate for transportation conformity purposes for the 2008 8-hour ozone national ambient air quality standards (NAAQS). The California Air Resources Board (CARB) submitted the 2016 Ozone Plan to the EPA on August 24, 2016, as a revision to the California State Implementation Plan (SIP). Upon the effective date of this notice of adequacy, the previously-approved budgets for the 1997 8-hour ozone standards will no longer be applicable for transportation conformity purposes, and the metropolitan planning organizations in the San Joaquin Valley and the U.S. Department of Transportation must use these budgets for future transportation conformity determinations.

DATES: This rule is effective on July 14, 2017.

ADDRESSES: The EPA has established a docket for this action, identified by Docket ID Number EPA-R09-OAR-2017-0345. The index to the docket is available electronically at http://www.regulations.gov or in hard copy at the EPA Region IX office, 75 Hawthorne Street, San Francisco, California. While all documents in the docket are listed in the index, some information may be publicly available only at the hard copy location (e.g., copyrighted material), and some may not be publicly available in either location (e.g., confidential business information). To inspect the hard copy materials, please schedule an appointment during normal business hours with the contact listed below.

FOR FURTHER INFORMATION CONTACT: Anita Lee, (415) 972-3958, or by email at lee.anita@epa.gov.

SUPPLEMENTARY INFORMATION: Throughout this document whenever “we,” “us,” or “our” is used, we mean the EPA.

This notice is simply an announcement of a finding that we have already made. On June 13, 2017, the Region IX office of the EPA sent a letter to CARB stating that the MVEBs in the San Joaquin Valley Unified Air Pollution Control District's 2016 Ozone Plan for the reasonable further progress milestone years of 2018, 2021, 2024, 2027, and 2030, and the attainment year of 2031, are adequate.¹

¹ See letter from Richard Corey, CARB, to Alexis Strauss, EPA, dated August 24, 2016, and letter from Elizabeth Adams, EPA, to Richard Corey, CARB dated June 13, 2017.

We announced the availability of the budgets on the EPA's adequacy review Web page from February 23, 2017, through March 27, 2017.² We did not receive any comments on the budgets. The MVEBs are provided in the following table:

² See https://www.epa.gov/state-and-local-transportation/state-implementation-plans-sip-submissions-currently-under-epa#Sanjoquin2017.

Adequate MVEBs in the 2016 Plan for the 2008 8-Hour Ozone Standard ᵃ
[Tons per summer planning day]
County | 2018: ROG | 2018: NOX | 2021: ROG | 2021: NOX | 2024: ROG | 2024: NOX | 2027: ROG | 2027: NOX | 2030: ROG | 2030: NOX | 2031: ROG | 2031: NOX
Fresno | 8.0 | 27.7 | 6.4 | 22.2 | 5.4 | 14.1 | 4.9 | 13.2 | 4.5 | 12.6 | 4.3 | 12.5
Kern ᵇ | 6.6 | 25.4 | 5.5 | 20.4 | 4.8 | 12.6 | 4.5 | 11.7 | 4.2 | 10.9 | 4.1 | 10.8
Kings | 1.3 | 5.1 | 1.1 | 4.2 | 0.9 | 2.6 | 0.9 | 2.5 | 0.8 | 2.3 | 0.8 | 2.3
Madera | 1.9 | 5.1 | 1.5 | 4.1 | 1.2 | 2.6 | 1.1 | 2.3 | 0.9 | 2.0 | 0.9 | 2.0
Merced | 2.5 | 9.4 | 2.0 | 7.8 | 1.6 | 4.8 | 1.5 | 4.4 | 1.3 | 4.2 | 1.3 | 4.1
San Joaquin | 5.9 | 13.0 | 4.9 | 10.3 | 4.2 | 6.9 | 3.8 | 6.2 | 3.5 | 5.7 | 3.3 | 5.5
Stanislaus | 3.8 | 10.5 | 3.0 | 8.3 | 2.6 | 5.6 | 2.3 | 5.1 | 2.1 | 4.7 | 2.0 | 4.7
Tulare | 3.7 | 9.5 | 2.9 | 7.2 | 2.4 | 4.7 | 2.2 | 4.1 | 1.9 | 3.8 | 1.9 | 3.7
ᵃ CARB calculated the MVEBs by taking each county's emissions results from EMFAC2014 (short for EMission FACtor 2014 version) and then rounding each county's emissions up to the nearest tenth of a ton. The EPA approved EMFAC2014 for use in SIP revisions and transportation conformity at 80 FR 77337 (December 14, 2015).
ᵇ San Joaquin Valley portion.

Transportation conformity is required by Clean Air Act section 176(c). The EPA's conformity rule requires that transportation plans, transportation improvement programs, and projects conform to SIPs and establishes the criteria and procedures for determining whether or not they conform. Conformity to a SIP means that transportation activities will not produce new air quality violations, worsen existing violations, or delay timely attainment of the NAAQS.

The criteria by which we determine whether a SIP's MVEBs are adequate for conformity purposes are outlined in the Code of Federal Regulations (CFR) at 40 CFR 93.118(e)(4), which was promulgated on August 15, 1997.³ We have further described our process for determining the adequacy of submitted SIP MVEBs in our final rule dated July 1, 2004, and we used the information in these resources in making our adequacy determination.⁴ Please note that an adequacy review is separate from the EPA's completeness review and should not be used to prejudge EPA's ultimate action on the SIP. Even if we find a budget adequate, the SIP could later be disapproved.

³ See 62 FR 43780 (August 15, 1997).

⁴ See 69 FR 40004 (July 1, 2004).

Pursuant to 40 CFR 93.104(e), within 2 years of the effective date of this notice, the metropolitan planning organizations in the San Joaquin Valley and the U.S. Department of Transportation will need to demonstrate conformity to the new MVEBs if the demonstration has not already been made.⁵ For demonstrating conformity to the MVEBs in this plan, the motor vehicle emissions from implementation of the transportation plan should be projected consistently with the budgets in this plan, i.e., by taking each county's emissions results from EMFAC2014 and then rounding each county's emissions up to the nearest tenth of a ton.

⁵ See 73 FR 4419 (January 24, 2008).

Authority: 42 U.S.C. 7401 et. seq.

Dated: June 13, 2017.
Deborah Jordan,
Acting Regional Administrator, Region IX.

[FR Doc. 2017-13658 Filed 6-28-17; 8:45 am]

BILLING CODE 6560-50-P